DEPARTMENT OF AGRICULTURE

Federal Crop Insurance Corporation

[Docket No. FCIC-19-0003]

Information Collection Request for Multiple Peril Crop Insurance

AGENCY: Federal Crop Insurance Corporation, USDA.

ACTION: Notice; request for comment.

SUMMARY: In accordance with the Paperwork Reduction Act (PRA) of 1995, the Federal Crop Insurance Corporation (FCIC) is requesting comments from all interested individuals and organizations on an extension and revision of a currently approved information collection request associated with the Multiple Peril Crop Insurance. The information collection is necessary for producers to submit for their participation in the Federal crop insurance program.

DATES: We will consider comments that we receive by the close of business July 5, 2019.

ADDRESSES: We invite you to submit comments on this notice. In your comments, please include OMB Control Number 0563-0053. FCIC prefers that comments be submitted electronically through the Federal eRulemaking Portal. You may submit comments by any of the following methods:

• Federal eRulemaking Portal: http://www.regulations.gov. Follow the instructions for submitting comments.

• Mail: Director, Product Administration and Standards Division, Risk Management Agency, U.S. Department of Agriculture, P.O. Box 419205, Kansas City, MO 64133-6205.

You may also send comments to the Desk Officer for Agricultures, Office of the Information and Regulatory Affairs, Office of Management and Budget, Washington, DC 20503. Comments will be available for public inspection online at http://www.regulations.gov.

FOR FURTHER INFORMATION CONTACT: Francie Tolle; telephone: (816) 926-3406; email: Francie.Tolle@usda.gov.

SUPPLEMENTARY INFORMATION: Title: Multiple Peril Crop Insurance.

OMB Control Number: 0563-0053.

Expiration Date of Approval: June 30, 2019.

Type of Request: Extension with a revision.

Abstract: The information collection requirements for this renewal package are necessary for administering the Federal crop insurance program. Producers are required to report specific data when they apply for Federal crop insurance and report acreage, yields, and notices of loss. Insurance companies accept applications; issue policies; establish and provide insurance coverage; compute liability, premium, subsidies, and losses; indemnify producers; and report specific data to FCIC as required in Appendix III/M13 Handbook. Commodities for which Federal crop insurance is available are included in this information collection package.

Estimate of Average Time to Respond: The public reporting burden for this collection of information is estimated to average 0.75 of an hour per response.

Type of Respondents: Producers and insurance companies reinsured by FCIC.

Estimated Annual Number of Respondents: 547,385.

Estimated Number of Responses per Respondent: 19.1.

Estimated Total Annual Responses: 10,446,340.

Estimated Total Annual Burden on Respondents: 7,884,471 hours.

FCIC is requesting the Office of Management and Budget (OMB) to extend the approval of this information collection for an additional 3 years.

We are requesting comments on all aspects of this information collection to help us to:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond including through the use of appropriate automated, electronic, mechanical, or other technological collection techniques or other forms of information technology. All comments received in response to this notice, including names and addresses when provided, a matter of public record. Comments will be summarized and included in the request for OMB approval.

Martin R. Barbre,
Manager, Federal Crop Insurance Corporation.

[FR Doc. 2019-09223 Filed 5-3-19; 8:45 am]

BILLING CODE 3410-34-P